DEPARTMENT OF HOMELAND SECURITY

Coast Guard

33 CFR Part 100

[Docket No. USCG-2014-0108]

RIN 1625-AA08

Special Local Regulations for Marine Events, Choptank River; Between Cambridge, MD and Trappe, MD

AGENCY: Coast Guard, DHS.

ACTION: Proposed rule; withdrawal.

SUMMARY: The Coast Guard is withdrawing its proposed rule concerning amendments to the regattas and marine parades regulations. The rulemaking was intended to establish special local regulations during the swim segment of the “Choptank Bridge Swim,” a marine event to be held on the waters of Choptank River between Cambridge, MD and Trappe, MD on May 10, 2014. The Coast Guard was notified on April 9, 2014 that the event had been cancelled.

DATES: The proposed rule is withdrawn on May 7, 2014.

ADDRESSES: The docket for this withdrawn rulemaking is available for inspection at the Docket Management Facility (M-30), U.S. Department of Transportation, West Building Ground Floor, Room W12-140, 1200 New Jersey Avenue SE., between 9 a.m. and 5 p.m., Monday through Friday, except federal holidays. You may also find this docket on the Internet by going to http://www.regulations.gov, inserting USCG 2014-0108 in the “Keyword” box, and then clicking “Search.”

FOR FURTHER INFORMATION CONTACT: If you have questions about this notice, call or email Mr. Ronald Houck, Waterways Management Division, Sector Baltimore, MD, U.S. Coast Guard; telephone 410-576-2674, email Ronald.L.Houck@uscg.mil. If you have questions on viewing material in the docket, call Cheryl Collins, Program Manager, Docket Operations, telephone 202-366-9826.

SUPPLEMENTARY INFORMATION:

Background

On March 18, 2014, we published a notice of proposed rulemaking entitled “Special Local Regulations for Marine Events, Choptank River; Between Cambridge, MD and Trappe, MD” in the Federal Register (79 FR 15068). The rulemaking concerned the Coast Guard's proposal to establish temporary special local regulations on specified waters of Choptank River between Cambridge, MD and Trappe, MD, effective from 9 a.m. to 3 p.m. on May 20, 2014. The regulated area included all waters of the Choptank River, from shoreline to shoreline, within and area bounded on the east by a line drawn from latitude 38°35′13″ N, longitude 076°02′33″ W, thence south to latitude 38°33′50″ N, longitude 076°02′07″ W, and bounded on the west by a line drawn from latitude 38°35′37″ N, longitude 076°03′09″ W, thence south to latitude 38°34′25″ N, longitude 076°04′05″ W, located at Cambridge, MD. The regulations were needed to temporarily restrict vessel traffic during the event to provide for the safety of participants, spectators and other transiting vessels.

Withdrawal

The Coast Guard is withdrawing this rulemaking because the event has been cancelled.

Authority

We issue this notice of withdrawal under the authority of 33 U.S.C. 1233.

Dated: April 16, 2014.
M.M. Dean,
Commander, U.S. Coast Guard, Acting Captain of the Port Baltimore.

[FR Doc. 2014-10381 Filed 5-6-14; 8:45 am]

BILLING CODE 9110-04-P